DEPARTMENT OF LABOR

Employment and Training Administration

[TA-W-53,748]

Motorola, Inc., Radio Support Center, Rockford, Illinois; Notice of Termination of Investigation

Pursuant to section 221 of the Trade Act of 1974, as amended, an investigation was initiated on December 9, 2003, in response to a petition filed on behalf of workers at Motorola, Inc., Radio Support Center, Rockford, Illinois.

The Department issued a negative determination applicable to the petitioning group of workers on December 3, 2003 (TA-W-53,470). No new information or change in circumstances is evident which would result in a reversal of the Department's previous determination. Consequently, further investigation would serve no purpose, and the investigation has been terminated.

Signed in Washington, DC, this 15th day of December, 2003.
Linda G. Poole,
Certifying Officer, Division of Trade Adjustment Assistance.

[FR Doc. 04-293 Filed 1-6-04; 8:45 am]

BILLING CODE 4510-30-P